ENVIRONMENTAL PROTECTION AGENCY

[EPA-HQ-OPP-2017-0009; FRL-9959-45]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2016 to December 31, 2016 to control unforeseen pest outbreaks.

FOR FURTHER INFORMATION CONTACT: Michael L. Goodis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2017-0009, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

California

Department of Pesticide Regulation

Specific exemption: EPA authorized the use of bifenthrin on a maximum of 18,000 acres of pomegranates to control leaf footed plant bug. A time-limited tolerance in connection with this action was established in 40 CFR 180.442(b); Effective October 6, 2016 to December 31, 2016.

Florida

Department of Agriculture and Consumer Services

Specific exemption: EPA authorized the use of clothianidin on a maximum of 125,376 acres of immature (3 to 5 years old) citrus trees to manage the transmission of Huanglongbing (HLB) disease vectored by the Asian citrus psyllid. A time-limited tolerance in connection with this action was established in 40 CFR 180.668(b); Effective March 1, 2017 to October 31, 2017.

Mississippi

Department of Agriculture and Commerce

Specific exemptions: EPA authorized the use of sulfoxaflor on a maximum of 337,500 acres of cotton to control tarnished plant bug. Tolerances in connection with a previous action have been established in 40 CFR 180.668(a); Effective December 23, 2016 to October 31, 2017.

EPA authorized the use of sulfoxaflor on a maximum of 115,000 acres of sorghum (grain and forage) to control sugarcane aphid. A time-limited tolerance in connection with this action has been established in 40 CFR 180.668(b); Effective May 1, 2017 to October 31, 2017.

North Carolina

Department of Agriculture and Consumer Services

Specific exemption: EPA authorized the use of thiabendazole for postharvest use on 80,000 acres of sweet potatoes to control black rot disease. A time-limited tolerance in connection with this action has been established in 40 CFR 180.680(b); Effective January 1, 2017 to December 31, 2017.

Pennsylvania

Department of Agriculture

Specific exemption: EPA authorized the use of etofenprox for use in mushroom cultivation on up to 16 million square feet (equivalent to 2,000 mushroom houses) to control Sciarid and Phorid fly species. Tolerances in connection with a previous action have been established in 40 CFR 180.620(a), to cover any residues as a result of this emergency exemption use; Effective December 21, 2016 to December 20, 2017.

Authority: 7 U.S.C. 136 et seq.

Dated: March 1, 2017.
Michael Goodis,
Director, Registration Division, Office of Pesticide Programs.

[FR Doc. 2017-05722 Filed 3-21-17; 8:45 am]

BILLING CODE 6560-50-P